DEPARTMENT OF COMMERCE

National Oceanic and Atmospheric Administration

Interagency Marine Debris Coordinating Committee Meeting

AGENCY: National Ocean Service, National Oceanic and Atmospheric Administration (NOAA), Department of Commerce.

ACTION: Notice of open meeting.

SUMMARY: Notice is hereby given of a virtual public meeting of the Interagency Marine Debris Coordinating Committee (IMDCC). IMDCC members will discuss Federal marine debris activities, with a particular emphasis on the topics identified in the section on Matters to Be Considered.

DATES: The virtual public meeting will be held on March 15, 2023, from 2 p.m. to 3 p.m. Eastern Time (ET).

ADDRESSES: The meeting will be held virtually using Google Meet. You can connect to the meeting using the website or phone number provided:

Meeting link: https://meet.google.com/jcr-hhqu-xxt.

Phone: +1 904-717-5054; PIN: 925 455 286#.

Attendance will be limited to the first 250 individuals to join the virtual meeting room. Refer to the IMDCC website at https://marinedebris.noaa.gov/our-work/IMDCC for the most up-to-date information on how to participate and on the agenda.

FOR FURTHER INFORMATION CONTACT: Ya'el Seid-Green, Executive Secretariat, IMDCC, Marine Debris Program; Phone 240-533-0399; Email yael.seid-green@noaa.gov or visit the IMDCC website at https://marinedebris.noaa.gov/our-work/IMDCC.

SUPPLEMENTARY INFORMATION: The IMDCC is a multi-agency body responsible for coordinating a comprehensive program of marine debris research and activities among Federal agencies, in cooperation and coordination with non-governmental organizations, industry, academia, States, Tribes, and other nations, as appropriate. Representatives meet to share information, assess and promote best management practices, and coordinate the Federal Government's efforts to address marine debris.

The Marine Debris Act establishes the IMDCC (33 U.S.C. 1954). The IMDCC submits biennial progress reports to Congress with updates on activities, achievements, strategies, and recommendations. NOAA serves as the Chairperson of the IMDCC.

The meeting will be open to public attendance on March 15, 2023, from 2 p.m. to 3 p.m. ET. There will not be a public comment period. The meeting will not be recorded.

Matters To Be Considered

The open meeting will include presentations from the Department of Energy, the National Science Foundation, and the U.S. Agency for International Development on their relevant marine debris-related activities. The agenda topics described are subject to change. The latest version of the agenda will be posted at https://marinedebris.noaa.gov/our-work/IMDCC.

Special Accommodations

The meeting is accessible to people with disabilities. Closed captioning will be available. Requests for other auxiliary aids should be directed to Ya'el Seid-Green, Executive Secretariat at yael.seid-green@noaa.gov or 240-533-0399 by March 3, 2023.

Scott Lundgren,
Director, Office of Response and Restoration, National Ocean Service, National Oceanic and Atmospheric Administration.

[FR Doc. 2023-03658 Filed 2-21-23; 8:45 am]

BILLING CODE 3510-NK-P